DEPARTMENT OF ENERGY

[Docket No. EA-278-A]

Applications to Export Electric Energy; Direct Commodities Trading, Inc

AGENCY: Office of Fossil Energy, DOE.

ACTION: Notice of application.

SUMMARY: Direct Commodities Trading, Inc., (DCT) has applied to renew its authority to transmit electric energy from the United States to Canada pursuant to section 202(e) of the Federal Power Act.

DATES: Comments, protests or requests to intervene must be submitted on or before January 12, 2005.

ADDRESSES: Comments, protests or requests to intervene should be addressed as follows: Office of Coal & Power Import/Export (FE-27), Office of Fossil Energy, U.S. Department of Energy, 1000 Independence Avenue, SW., Washington, DC 20585-0350 (FAX 202-287-5736).

FOR FURTHER INFORMATION CONTACT: Steven Mintz (Program Office) 202-586-9506 or Michael Skinker (Program Attorney) 202-586-2793.

SUPPLEMENTARY INFORMATION: Exports of electricity from the United States to a foreign country are regulated and require authorization under section 202(e) of the Federal Power Act (FPA) (16 U.S.C. 824a(e)).

On May 19, 2003, the Office of Fossil Energy (FE) of the Department of Energy (DOE) issued Order No. EA-278 authorizing DCT to transmit electric energy from the United States to Canada as a power marketer. That two-year authorization will expire on May 19, 2005.

On November 15, 2004, the FE received an application from DCT to renew its authorization to transmit electric energy from the United States Canada for terms of five years. DCT, a Canadian corporation, is a power marketer that does not own or control any electric generation or transmission facilities nor does it have any franchised service territory in the United States.

DCT proposes to export electric energy to Canada and to arrange for the delivery of those exports over the international transmission facilities owned by New York Power Authority and Niagara Mohawk Power Corporation.

The construction of each of the international transmission facilities to be utilized by DCT, as more fully described in the applications, has previously been authorized by a Presidential permit issued pursuant to Executive Order 10485, as amended.

Procedural Matters

Any person desiring to become a party to these proceedings or to be heard by filing comments or protests to these applications should file a petition to intervene, comment or protest at the address provided above in accordance with §§ 385.211 or 385.214 of the FERC's Rules of Practice and Procedures (18 CFR 385.211, 385.214). Fifteen copies of each petition and protest should be filed with the DOE on or before the dates listed above.

Comments on the DCT application to export electric energy to Canada should be clearly marked with Docket EA-278-A. Additional copies are to be filed directly with Jean-Jacques Taza, DCT Inc., 5413 St-Laurent Blvd., Suite 209, Montreal, Quebec, Canada, H2T 1S5.

Copies of these applications will be made available, upon request, for public inspection and copying at the address provided above or by accessing the Fossil Energy Home Page at http://www.fe.doe.gov. Upon reaching the Fossil Energy Home page, select “Electricity Regulation,” and then “Pending Proceedings” from the options menus.

Issued in Washington, DC on December 7, 2004.
Anthony J. Como,
Deputy Director, Electric Power Regulation, Office of Fossil Energy.

[FR Doc. 04-27258 Filed 12-10-04; 8:45 am]

BILLING CODE 6450-01-P